DEPARTMENT OF ENERGY

Federal Energy Regulatory Commission

[Docket No. RP04-266-000]

Midwestern Gas Transmission Company; Notice of Proposed Changes in FERC Gas Tariff

April 30, 2004.

Take notice that on April 27, 2004, Midwestern Gas Transmission Company (Midwestern) tendered for filing to become part of Midwestern's FERC Gas Tariff, Third Revised Volume No. 1, the following tariff sheets to become effective June 1, 2004:

Fourth Revised Sheet No. 247

Ninth Revised Sheet No. 273

Original Sheet No. 273A

Midwestern is requesting that the Commission accept certain potential non-conforming transportation agreements. Midwestern explains that such agreements contain language in the Term section that is different from the form of agreement currently contained in its Tariff. To rectify the inconsistency, Midwestern is proposing to amend Section 16 of the General Terms and Conditions of its Tariff to provide conformity between its Tariff and the agreements. In addition, Midwestern is notifying the Commission that one of the non-conforming agreements may contain a negotiated rate.

Any person desiring to be heard or to protest said filing should file a motion to intervene or protest with the Federal Energy Regulatory Commission, 888 First Street, NE., Washington, DC 20426, in accordance with Sections 385.214 or 385.211 of the Commission's Rules and Regulations. All such motions or protests must be filed as filed in accordance with Section 154.210 of the Commission's Regulations. Protests will be considered by the Commission in determining the appropriate action to be taken, but will not serve to make protestants parties to the proceeding. Any person wishing to become a party must file a motion to intervene. This filing is available for review at the Commission in the Public Reference Room or may be viewed on the Commission's Web site at http://www.ferc.gov using the eLibrary. Enter the docket number excluding the last three digits in the docket number field to access the document. For assistance, contact FERC Online Support at FERCOnlineSupport@ferc.gov or toll-free at (866) 208-3676, or TTY, contact (202) 502-8659. The Commission strongly encourages electronic filings. See,18 CFR 385.2001(a)(1)(iii) and the instructions on the Commission's Web site under the e-Filing link.

Magalie R. Salas,
Secretary.

[FR Doc. E4-1045 Filed 5-7-04; 8:45 am]

BILLING CODE 6717-01-P